DEPARTMENT OF DEFENSE

Department of the Army

Final Environmental Impact Statement (FEIS) for the Renewal of the Special Use Permit (SUP) for Military Activities on the De Soto National Forest and Implementation of Installation Mission Support Activities at Camp Shelby, MS

AGENCY: National Guard Bureau (NGB), Department of the Army, DoD.

ACTION: Notice of Availability.

SUMMARY: This FEIS has been prepared by the NGB and the U.S. Department of Agriculture—Forest Service (USDA-FS). NGB is the lead agency and the USDA-FS is serving as a cooperating agency in the development of this FEIS for the renewal of the current SUP that authorizes military training activities at Camp shelby Training Site.

DATES: The waiting period for the FEIS will end 30 days after publication of an NOA in the Federal Register by the U.S. Environmental Protection Agency.

ADDRESSES: Written comments or questions regarding the FEIS may be forwarded to Mr. Tim Powell, Public Affairs Officer, Joint Forces Headquarters, Mississippi National Guard, P.O. Box 5027, Jackson, Mississippi, 39296-5027.

FOR FURTHER INFORMATION CONTACT: Mr. Tim Powell, Public Affairs Officer, at (601) 313-6349. The alternate point of contact for this action is Major Robert A. Lemire, Mississippi Army National Guard, Director Environmental Programs at (601) 313-6228.

SUPPLEMENTARY INFORMATION: This FEIS discusses in-depth two alternatives: the Preferred Alternative and the No-Action Alternative. Under the Preferred Alternative, the Mississippi National Guard (MSNG) proposes the renewal of the USDA-FS SUP for a 20-year timeframe and authorizes current activities and mission requirements to continue on State of Mississippi, DoD, and National Forest lands. This alternative will help meet the Army requirements associated with the Proposed Action by constructing various new ranges and facilities at Camp Shelby and allowing for the continuation of necessary maintenance, repair, and rehabilitation of the infrastructure at Camp Shelby. The No Action Alternative would authorize the renewal of the SUP for a 10-year timeframe (same as previous SUP) and military activities would continue as currently permitted. this alternative would not authorize the proposed construction of new ranges and facilities and improvements and improved management practices. Other alternatives considered but eliminated from detailed study are also addressed in the FEIS. the potential for significant impacts exists for both alternatives; however with the implementation of the ongoing and proposed mitigation and monitoring measures, the unavoidable adverse impacts can be mitigated to an acceptable level. Under the preferred alternative, current activities and mission requirements will continue on State of Mississippi, DoD, and National Forest lands. This alternative includes implementation of the projects and programs discussed in this FEIS, in addition to the continuation of necessary maintenance, repair, and rehabilitation of the military training infrastructure at Camp Shelby. Environmental consequences for the proposed actions; e.g. renewal of the SUP, and construction, operation, and maintenance of several new projects at Camp Shelby have been analyzed. The new project proposals have the potential for the following adverse impacts:

(1) Direct and/or indirect effects on habitat for other proposed, endangered, threatened, and sensitive species such as Louisiana quillwort (federal endangered species), black pine snake (federal candidate species), and other state and USDA-FS sensitive plant species. There would be direct positive effects on the red-cockaded woodpecker when colonies are relocated into the proposed Habitat Management Area at sometime in the future.

(3) Direct and/or indirect effects on approximately 275 acres of wetlands (requiring fill of an estimated 20 acres of wetlands).

Direct effects by removal of approximately 120 acres for pine and hardwood forested areas.

(5) Direct effects by movement of approximately 250,000 cubic yards of earth and resulting direct and/or indirect effects from erosion and sedimentation.

The proposed Combined Arms ARea (CAA) reconfiguration in this FEIS would result in a 4,300 acre reduction in the amount of unavoidable impacts associated with forest clearing/thinning from the scope of the CAA last addressed and approved for construction in the 1994 SUP EIS. Also associated with the CAA is the proposed Combined Arms Collective Training Facility (CACTF), which would be co-located within the CAA maneuver areas to be cleared and/or thinned and would not require any further significant timber removal. This reduction of approximately 4,300 acres of impacts is an improvement from an environmental standpoint over the original plan and it still meets military training requirements.

The No Action alternative has two subsets, one related to the SUP and the other to actions associated with mission support (construction in the cantonment area and the range and training area). In regards to the SUP, this is defined as renewal of a 10-year SUP for “continuation of military activities as presently permitted.” This alternative does not allow for improved and future mission requirements, future military construction funding, improved management practices, and a 20-year SUP permit.

A copy of the FEIS can be found at the following Web site: http://www.ngms.state.ms.us/env/Natural%20Resources/nat_resources_06.htm.

Following the 30-day waiting period, a Record of Decision will be signed.

Dated: November 13, 2007.
Addison D. Davis, IV,
Deputy Assistant Secretary of the Army, (Environment, Safety, and Occupational Health).

[FR Doc. 07-6286 Filed 01-03-08; 8:45 am]

BILLING CODE 3710-08-M